DEPARTMENT OF TRANSPORTATION

Federal Aviation Administration

14 CFR Part 39

[Docket No. FAA-2006-25920; Directorate Identifier 2006-NM-137-AD; Amendment 39-14851; AD 2006-25-10]

RIN 2120-AA64

Airworthiness Directives; BAE Systems (Operations) Limited Model BAe 146 and Avro 146-RJ Airplanes

AGENCY: Federal Aviation Administration, DOT.

ACTION: Final rule.

SUMMARY: The FAA is adopting a new airworthiness directive (AD) for all BAE Systems (Operations) Limited Model BAe 146 and Model Avro 146-RJ airplanes. This AD requires calculating the current life of each lift spoiler jack, and eventually replacing each lift spoiler jack. This AD results from a review of all system components as part of the life-extension program for the affected airplanes that indicated the fatigue life limit of certain lift spoiler jacks cannot be extended from the current life limit. We are issuing this AD to prevent failure of the lift spoiler jack, and consequent increased drag and uncommanded roll inputs, which could reduce the flightcrew's ability to control the airplane.

DATES: This AD becomes effective January 16, 2007.

The Director of the Federal Register approved the incorporation by reference of a certain publication listed in the AD as of January 16, 2007.

ADDRESSES: You may examine the AD docket on the Internet at http://dms.dot.gov or in person at the Docket Management Facility, U.S. Department of Transportation, 400 Seventh Street, SW., Nassif Building, Room PL-401, Washington, DC.

Contact British Aerospace Regional Aircraft American Support, 13850 Mclearen Road, Herndon, Virginia 20171, for service information identified in this AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all BAE Systems (Operations) Limited Model BAe 146 and Model Avro 146-RJ airplanes. That NPRM was published in the Federal Register on September 28, 2006 (71 FR 56903). That NPRM proposed to require calculating the current life of each lift spoiler jack, and eventually replacing each lift spoiler jack.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Determine the life of each lift spoiler jack | 1 | $80 | None | $80 | 53 | $4,240
Replace each lift spoiler jack (6 per airplane) | 6 | 80 | $102,000 | 102,480 | 53 | 5,431,440

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-25-10 BAE Systems (Operations) Limited (Formerly British Aerospace Regional Aircraft): Amendment 39-14851. Docket No. FAA-2006-25920; Directorate Identifier 2006-NM-137-AD.

Effective Date

(a) This AD becomes effective January 16, 2007.

Affected ADs

(b) None.

Applicability

(c) This AD applies to the airplanes specified in paragraphs (c)(1) and (c)(2) of this AD, certificated in any category, having lift spoiler jacks with part number (P/N) P308-45-0002, P308-45-0102, or P308-45-0202.

(1) All BAE Systems (Operations) Limited Model BAe 146-100A, -200A, and -300A series airplanes.

(2) All Model Avro 146-RJ70A, 146-RJ85A, and 146-RJ100A airplanes.

Unsafe Condition

(d) This AD results from a review of all system components as part of the life-extension program for the affected airplanes that indicated the fatigue life of certain lift spoiler jacks cannot be extended from the current life limit. We are issuing this AD to prevent failure of the lift spoiler jack, and consequent increased drag and uncommanded roll inputs, which could reduce the flightcrew's ability to control the airplane.

Compliance

(e) You are responsible for having the actions required by this AD performed within the compliance times specified, unless the actions have already been done.

Calculating the Life Limit

(f) Within 18 months after the effective date of this AD: Calculate the current life of each lift spoiler jack in accordance with the Accomplishment Instructions of BAE Systems (Operations) Limited Modification Service Bulletin ISB.27-178, dated January 14, 2005.

Note 1: BAE Systems (Operations) Limited Modification Service Bulletin ISB.27-178 refers to the service information listed in Table 1 of this AD as additional sources of service information for the actions in paragraphs (f) and (g) of this AD.

Table 1.—Additional Sources of Service Information
This service document— | Is an additional source of service information for—
BAE Systems (Operations) Limited Modification Service Bulletin SB.27-179-70675A, dated January 19, 2005 | Replacing lift spoiler jacks having P/N P308-45-0002 and -0102.
BAE Systems (Operations) Limited Inspection Service Bulletin ISB.05-005, Revision 1, dated June 9, 2005 | Calculating the theoretical life when complete utilization records do not exist.
Smiths Service Newsletter P308-27-003, dated March 12, 2004 | Resolving anomalies with the P/Ns.

Replacement

(g) Within 18 months after the effective date of this AD or before the accumulation of 55,000 total flight cycles on the lift spoiler jack, whichever occurs later: Replace each P/N P308-45-0002, P308-45-0102, or P308-45-0202 lift spoiler jack with a serviceable unit, in accordance with the Accomplishment Instructions of BAE Systems (Operations) Limited Modification Service Bulletin ISB.27-178, dated January 14, 2005. Thereafter, replace each lift spoiler jack with a serviceable unit at intervals not to exceed 55,000 flight cycles.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) European Aviation Safety Agency airworthiness directive 2006-0138, dated May 23, 2006, also addresses the subject of this AD.

Material Incorporated by Reference

(j) You must use BAE Systems (Operations) Limited Modification Service Bulletin ISB.27-178, dated January 14, 2005, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 1, 2006.
Kevin M. Mullin,
Acting Manager, Transport Airplane Directorate, Aircraft Certification Service.

[FR Doc. E6-20952 Filed 12-11-06; 8:45 am]

BILLING CODE 4910-13-P